DEPARTMENT OF TRANSPORTATION

National Highway Traffic Safety Administration

[Docket No. NHTSA-2023-0038]

Supplemental Initial Decision That Certain Frontal Driver and Passenger Air Bag Inflators Manufactured by ARC Automotive Inc. and Delphi Automotive Systems LLC, and Vehicles in Which Those Inflators Were Installed, Contain a Safety Defect

AGENCY: National Highway Traffic Safety Administration (NHTSA), Department of Transportation (DOT).

ACTION: Second extension of deadline for written submissions.

SUMMARY: On October 2, 2024, NHTSA received a request to extend the period during which manufacturers and any interested person may submit written information in response to the agency's Supplemental Initial Decision published in the Federal Register on August 5, 2024. The prior written submission deadline was October 4, 2024. NHTSA is extending the deadline to October 11, 2024.

DATES: The written submission deadline related to the Supplemental Initial Decision published on August 5, 2024, at 89 FR 63473, is extended to October 11, 2024.

ADDRESSES: You may submit written submissions to the docket number identified in the heading of this document by any of the following methods:

• Federal eRulemaking Portal: Go to https://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, between 9 a.m. and 5 p.m. ET, Monday through Friday, except Federal holidays.

• Fax: (202) 493-2251.

Instructions: All submissions must include the agency name and docket number. Note that all written submissions received will be posted without change to https://www.regulations.gov, including any personal information provided. Please see the Privacy Act discussion below. We will consider all written submissions received before the close of business on Friday, October 4, 2024.

Docket: For access to the docket to read background documents or written submissions received, go to https://www.regulations.gov at any time or to 1200 New Jersey Avenue SE, West Building Ground Floor, Room W12-140, Washington, DC 20590, between 9 a.m. and 5 p.m., Monday through Friday, except Federal Holidays. Telephone: (202) 366-9826.

Privacy Act: In accordance with 49 U.S.C. 30118(b)(1), NHTSA will make a final decision only after providing an opportunity for manufacturers and any interested person to present information, views, and arguments. DOT posts written submissions submitted by manufacturers and interested persons, without edit, including any personal information the submitter provides, to www.regulations.gov, as described in the system of records notice (DOT/ALL-14 Federal Docket Management System (FDMS)), which can be reviewed at www.transportation.gov/privacy.

Confidential Business Information: If you wish to submit any information under a claim of confidentiality, you must submit your request directly to NHTSA's Office of the Chief Counsel. Requests for confidentiality are governed by 49 CFR part 512. NHTSA is currently treating electronic submission as an acceptable method for submitting confidential business information (CBI) to the agency under part 512. If you would like to submit a request for confidential treatment, you may email your submission to Allison Hendrickson in the Office of the Chief Counsel at Allison.Hendrickson@dot.gov or you may contact her for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have redacted the claimed confidential business information, to the Docket at the address given above.

FOR FURTHER INFORMATION CONTACT: Allison Hendrickson, Office of the Chief Counsel, National Highway Traffic Safety Administration, 1200 New Jersey Avenue SE, Washington, DC 20590; (202) 366-2992.

SUPPLEMENTARY INFORMATION: On July 31, 2024, NHTSA issued a Supplemental Initial Decision That Certain Frontal Driver and Passenger Air Bag Inflators Manufactured by ARC Automotive Inc. and Delphi Automotive Systems LLC, and Vehicles in Which Those Inflators Were Installed, Contain a Safety Defect pursuant to 49 U.S.C. 30118(a) and 49 CFR 554.10. 89 FR 63473 (Aug. 5, 2024). More specifically, NHTSA confirmed its initial decision of September 5, 2023, at 88 FR 62140, that certain air bag inflators manufactured by ARC Automotive Inc. (ARC) and Delphi Automotive Systems LLC (Delphi) may rupture when the vehicle's air bag is commanded to deploy, causing metal debris to be forcefully ejected into the passenger compartment of the vehicle, and that these rupturing air bag inflators pose an unreasonable risk of serious injury or death to vehicle occupants. In accordance with 49 U.S.C. 30118(b)(1) and 49 CFR 554.10(c)(4), the Supplemental Initial Decision provided manufacturers and any interested person an opportunity to present information, views, and arguments in response to the Supplemental Initial Decision by submitting written information to the Agency. The original deadline for written submissions in response to the Supplemental Initial Decision was September 4, 2024. Based on a request received on August 7, 2024, NHTSA extended the original deadline to October 4, 2024.

Written Submission Deadline Extension Request

On October 2, 2024, NHTSA received a request from counsel representing certain unspecified motor vehicle and motor vehicle equipment manufacturers asking NHTSA to extend the period for written submissions by two weeks. The request claimed that, based on five documents in the agency's investigative file to which the manufacturers received access on October 1, 2024, the manufacturers needed more time to adequately review the documents and prepare their responses. A copy of the extension request and NHTSA's response will be added to the public docket.

Extension of Written Submission Deadline

After consideration of the request and the limited information contained in the five documents, NHTSA decided to extend the deadline to provide written submissions by one week. The prior deadline of October 4, 2024 has been extended, and written submissions from any interested person are now due before the close of business on October 11, 2024.

Authority:

49 U.S.C. 30118(a), (b); 49 CFR 554.10; delegations of authority at 49 CFR 1.50(a) and 49 CFR 501.8.

Eileen Sullivan,
Associate Administrator for Enforcement.

[FR Doc. 2024-23171 Filed 10-3-24; 4:15 pm]

BILLING CODE 4910-59-P